DEPARTMENT OF COMMERCE

National Oceanic and Atmospheric Administration

15 CFR Part 902

[Docket No. 070720390-9588-04]

RIN 0648-AV28

Fisheries in the Western Pacific; Bottomfish and Seamount Groundfish; Management Measures for the Northern Mariana Islands

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements contained in regulations implementing Amendment 10 to the Fishery Management Plan for Bottomfish and Seamount Groundfish Fisheries of the Western Pacific Region. The intent of this final rule is to inform the public that the associated permitting, reporting, and vessel monitoring system (VMS) requirements for vessels in the Commonwealth of the Northern Mariana Islands (CNMI) have been approved by OMB.

DATES: The amendments to §§ 665.14, 665.16, 665.19, and 665.61, published at 73 FR 75615 (December 12, 2008) have been approved by OMB and are effective on May 6, 2009.

ADDRESSES: Written comments regarding the burden-hour estimates or other aspects of the collection-of-information requirements contained in this final rule may be submitted to William L. Robinson, Administrator, NMFS Pacific Islands Region (PIR), 1601 Kapiolani Blvd., Suite 1110, Honolulu, HI 96814-4700, and to David Rostker, OMB, by e-mail to David_Rostker@omb.eop.gov, or fax to 202-395-7285.

FOR FURTHER INFORMATION CONTACT: Brett Wiedoff, Sustainable Fisheries Division, NMFS PIR, 808-944-2272.

SUPPLEMENTARY INFORMATION: This Federal Register document is also accessible at www.gpoaccess.gov/fr/.

A final rule for Amendment 10 was published in the Federal Register on December 12, 2008 (73 FR 75615). The requirements of that final rule, other than the collection-of-information requirements, were effective on January 12, 2009. Because OMB approval of the collection-of-information requirements had not been received by the date the final rule was published, the effective date of the associated permitting, reporting, and VMS requirements in that rule was delayed. OMB approved the collection-of-information requirements on March 9, 2009.

Classification

This final rule has been determined to be not significant for purposes of Executive Order 12866.

Notwithstanding any other provision of the law, no person is required to respond to, and no person shall be subject to penalty for failure to comply with, a collection of information subject to the requirements of the Paperwork Reduction Act (PRA), unless that collection of information displays a currently valid OMB control number.

This final rule contains new collection-of-information requirements subject to the PRA under OMB Control Numbers 0648-0584 (CNMI bottomfish fishing permits, vessel identification, and VMS requirements) and 0648-0214 (CNMI bottomfish fishing logs and sales reports). The public reporting burden for these requirements is estimated to be 0.5 hr per permit applicant, with renewals requiring an additional 0.5 hr annually, 20 min for completing a fishing logbook each day, and approximately 35 min per vessel per fishing trip for completing Federal sales reports. For the purpose of this rule only, vessels larger than 40 ft (12.2 m) in length are required to submit Federal sales reports. These estimates include time for reviewing instructions, searching existing data sources, gathering and maintaining the data needed, and completing and reviewing the collection of information. Send comments regarding these burden estimates or any other aspect of this data collection, including suggestions for reducing the burden, to William L. Robinson (see ADDRESSES), or by e-mail to David_Rostker@omb.eop.gov, or fax to 202-395-7285.

List of Subjects in 15 CFR Part 902

Reporting and recordkeeping requirements.

Dated: April 1, 2009.
Samuel D. Rauch III
Deputy Assistant Administrator for Regulatory Programs, National Marine Fisheries Service

For the reasons set out in the preamble, 15 CFR part 902 is amended as follows:

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, amend the table in paragraph (b), under the entry “50 CFR” by removing the entry for “665.25”, adding an entry for “665.19” in numerical order, and revising the entries for “665.16” and “665.61” to read as follows:

§ 902.1 OMB control numbers assigned pursuant to the Paperwork Reduction Act.

(b) * * *

CFR part or section where the information collection requirement is located | Current OMB control number (all numbers begin with 0648-)
* * * * * * *
50 CFR |
* * * * * * *
665.16 | -0360 and -0584
* * * * * * *
665.19 | -0441 and -0584
* * * * * * *
665.61 | -0490 and -0584
* * * * * * *

[FR Doc. E9-7707 Filed 4-3-09; 8:45 am]

BILLING CODE 3510-22-S